FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, Federal Reserve Clearance for Board Public website Usability Surveys (FR 3076, OMB No. 7100-0366).

FOR FURTHER INFORMATION CONTACT: Federal Reserve Board Clearance Officer—Nuha Elmaghrabi—Office of the Chief Data Officer, Board of Governors of the Federal Reserve System, Washington, DC 20551, (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW, Washington, DC 20503 or by fax to (202) 395-6974.

SUPPLEMENTARY INFORMATION: On June 15, 1984, the Office of Management and Budget (OMB) delegated to the Board authority under the Paperwork Reduction Act (PRA) to approve of and assign OMB control numbers to collection of information requests and requirements conducted or sponsored by the Board. Board-approved collections of information are incorporated into the official OMB inventory of currently approved collections of information. Copies of the Paperwork Reduction Act Submission, supporting statements and approved collection of information instrument(s) are placed into OMB's public docket files. The Board may not conduct or sponsor, and the respondent is not required to respond to, an information collection that has been extended, revised, or implemented on or after October 1, 1995, unless it displays a currently valid OMB control number.

Final Approval Under OMB Delegated Authority of the Extension for Three Years, Without Revision, of the Following Report

Report title: Federal Reserve Clearance for Board Public website Usability Surveys.

Agency form number: FR 3076.

OMB control number: 7100-0366.

Frequency: As needed.

Respondents: Individuals.

Estimated number of respondents: Surveys: 100, Focus Groups: 20.

Estimated average hours per response: Surveys: 0.25, Focus Groups: 1.5.

Estimated annual burden hours: 420.

General description of report: The FR 3076 is used to gather qualitative and quantitative information directly from users or potential users of the Board's website such as Congress, other government agencies, the public, economic educators, economists, financial institutions, financial literacy groups, and community development groups and more. Participation is voluntary.

The FR 3076 may seek information from users or potential users of various Board web pages, including press releases, data releases and downloads, reports, supervision manuals, brochures, new web pages, audio, video, and use of social media. Information gathered may also include general input on users' interests and needs, feedback on website navigation and layout, distribution channels, or other factors which may affect the ability of users to locate and access content online.

Qualitative surveys conducted using the FR 3076 would include data gathering methods such as focus groups and individual interviews. Quantitative surveys conducted using the FR 3076 would include surveys conducted online or via mobile device, by phone or by mail, emails, or a combination of these methods. The Board may contract with an outside vendor to conduct focus groups, interviews, or surveys, or the Board may collect the data directly.

As the Board's public website continues to evolve, the Board may seek input from users or potential users of Board's public website on questions such as the following:

• Did you find the content and layout relevant and of value?

• How did you find the content you were looking for?

• Was the navigation useful?

• How did you learn about the content?

• How did you access the content? (e.g.: Paper copy distributed at an event, online, or mobile device). If online or through a mobile device, was the document printed, viewed on a tablet, or on a computer screen?

• What suggestions do you have for improving the format and appearance of online presentation? (e.g.: Readability—font size, charts, and graphs; organization of information; and navigating—indexing, search tools, and links)

What other information would be of value to enhance the online tool or information?

Legal authorization and confidentiality: The Board uses its website and social media to communicate important information to the public about a variety of different issues. The Board is required to provide certain information on its website. For example, under section 2B of the Federal Reserve Act the Board is required to provide certain reports, audits, and other information that “the Board reasonably believes is necessary or helpful to the public in understanding the accounting, financial reporting, and internal controls of the Board and the Federal reserve banks.” (12 U.S.C. 225b(c)). In addition, the Board uses its website to provide the public with information about a variety of other matters, including information about the Board, its actions, and the economy. The responses to the FR 3076 help the Board determine how to most effectively communicate this information to the public in order to fulfill its statutory responsibilities. The FR 3076 is voluntary. The information collected by the FR 3076 is not considered to be confidential.

Current actions: On April 5, 2018 the Board published a notice in the Federal Register (83 FR 14640) requesting public comment for 60 days on the extension, without revision, of the Federal Reserve Clearance for Board Public website Usability Surveys. The comment period for this notice expired on June 4, 2017. The Board did not receive any comments.

Board of Governors of the Federal Reserve System, June 15, 2018.
Michele Taylor Fennell,
Assistant Secretary of the Board.

[FR Doc. 2018-13287 Filed 6-20-18; 8:45 am]

BILLING CODE 6210-01-P